DEPARTMENT OF LABOR

Employment and Training Administration

[TA-W-62,232]

Philips Lighting Company; Lamps Division, Danville, KY; Notice of Revised Determination on Reconsideration

On January 2, 2008, the Department issued an Affirmative Determination Regarding Application for Reconsideration for the workers and former workers of Philips Lighting Company, Lamps Division, Danville, Kentucky (subject firm). The Department's Notice of Determination was published in the Federal Register on January 11, 2008 (73 FR 2068). The subject firm produces glass envelopes used in incandescent lamps and glass envelopes used in (Christmas) ornaments. Workers are not separately identifiable by product line.

The initial negative determination regarding eligibility to apply for Trade Adjustment Assistance (TAA) and Alternative Trade Adjustment Assistance (ATAA) applicable to workers and former workers of the subject firm (issued on November 9, 2007) was based on the Department's findings that, during the relevant period, the subject firm did not shift glass envelope production to a foreign country, and neither the subject firm nor its customers imported articles like or directly competitive with those produced by the subject firm.

The request for administrative reconsideration filed by the United Steel, Paper and Forestry, Rubber, Manufacturing, Energy, Allied Industrial and Service Workers International Union (Union), dated December 20, 2007, alleges that “the production of the company's incandescent bulbs would be transferred to the company's Monterey, Mexico facility;” that the subject firm “manufactures and imports Compact Fluorescent Light Bulbs in Poland, which competes with incandescent bulbs;” that two major competitors “manufacture Compact Fluorescent light bulbs in China and import these products to the U.S.;” and that the subject firm's single largest customer of glass envelopes used in ornaments ceased purchasing from the subject firm “because that company now imports all of their finished goods.”

The Union's support documentation included the following: a copy of an August 10, 2007 letter from a company official to the Union (with a memorandum attached); a copy of a September 10, 2007, letter from a company official to the Union; an undated document titled “Partial Sampling of Legislation Impacting Incandescent Lamps;” a copy of an article titled “Is It Time to Ban the Bulb?” (TED Magazine, March 2007); a copy of an article titled “Lamps NA Briefing” (Philips, March 14, 2007); a copy of an e-mail exchange between a company official and the Union on December 19, 2007; and a copy of an e-mail exchange between a company official and the Union on December 20, 2007.

Under Section 223(a) of the Trade Act of 1974, as amended, TAA certification may be issued for primary workers if the following criteria are met:

Section (a)(2)(A)—

A. A significant number or proportion of the workers in such workers' firm, or an appropriate subdivision of the firm, have become totally or partially separated, or are threatened to become totally or partially separated; and

B. The sales or production, or both, of such firm or subdivision have decreased absolutely; and

C. Increased imports of articles like or directly competitive with articles produced by such firm or subdivision have contributed importantly to such workers' separation or threat of separation and to the decline in sales or production of such firm or subdivision; or

Section (a)(2)(B)—

A. A significant number or proportion of the workers in such workers' firm, or an appropriate subdivision of the firm, have become totally or partially separated, or are threatened to become totally or partially separated; and

B. There has been a shift in production by such workers' firm or subdivision to a foreign country of articles like or directly competitive with articles which are produced by such firm or subdivision; and

C. One of the following must be satisfied:

1. The country to which the workers' firm has shifted production of the articles is a party to a free trade agreement with the United States; or

2. The country to which the workers' firm has shifted production of the articles is a beneficiary country under the Andean Trade Preference Act, African Growth and Opportunity Act, or the Caribbean Basin Economic Recovery Act; or

3. There has been or is likely to be an increase in imports of articles that are like or directly competitive with articles which are or were produced by such firm or subdivision.

During the reconsideration investigation, the Department confirmed that the subject workers produce glass envelopes used in incandescent lamps and glass envelopes used in ornaments, and that the workers are not separately identifiable by product line.

The Department also confirmed that the subject firm imports neither glass envelopes for incandescent lamps nor glass envelopes used in ornaments, and that the article imported into the United States by the subject firm are finished incandescent lamps (an article neither like nor directly competitive with the glass envelopes produced by the subject workers). As such, the Department determines that the criteria set forth in Section (a)(2)(A) has not been met.

The Department also confirmed that the glass envelopes used in incandescent lamps produced at the Danville, Kentucky facility have always been sent to an affiliated facility in Mexico for further processing (into incandescent lamps), that the glass envelopes produced by the subject workers are being replaced by envelopes produced by both domestic and foreign vendors (which are sent to Mexico to be further processed into incandescent lamps), and that the subject firm did not shift production of glass envelopes used in ornaments to a foreign country. As such, the Department determines that the criteria set forth in Section (a)(2)(B) has not been met.

Although the Union's request for reconsideration did not allege that the subject workers were adversely affected as secondary workers (workers of a firm that supply component parts to a TAA-certified company or finished or assembled for a TAA-certified company), the Department expanded the investigation to determine whether they would be eligible to apply for TAA on this basis. Such a certification, under Section 223(b)(2), must be based in the certification of a primary firm.

The reconsideration investigation revealed that the subject firm supplies component parts for glass Christmas ornaments and that the loss of business with this manufacturer contributed importantly to the separation or threat of separation of workers at the subject firm. As such, the Department determines that Section 223(b)(2) has been met.

In accordance with Section 246 the Trade Act of 1974 (26 U.S.C. 2813), as amended, the Department herein presents the results of its investigation regarding certification of eligibility to apply for ATAA. The Department has determined in this case that the group eligibility requirements of Section 246 have been met.

A significant number of workers at the firm are age 50 or over and possess skills that are not easily transferable. Competitive conditions within the industry are adverse.

Conclusion

After careful review of the information obtained during the reconsideration investigation, I determine that workers and former workers of Philips Lighting Company, Lamps Division, Danville, Kentucky, qualify as adversely affected secondary workers under Section 222 of the Trade Act of 1974, as amended.

In accordance with the provisions of the Act, I make the following certification:

“All workers of Philips Lighting Company, Lamps Division, Danville, Kentucky, who became totally or partially separated from employment on or after September 28, 2006, through two years from the date of this certification, are eligible to apply for adjustment assistance under Section 223 of the Trade Act of 1974, and are eligible to apply for alternative trade adjustment assistance under Section 246 of the Trade Act of 1974.”

Signed at Washington, DC this 11th day of March 2008.
Elliott S. Kushner,
Certifying Officer, Division of Trade Adjustment Assistance.

[FR Doc. E8-5729 Filed 3-20-08; 8:45 am]

BILLING CODE 4510-FN-P